DEPARTMENT OF HEALTH AND HUMAN SERVICES

National Institutes of Health

National Cancer Institute; Call for Nominations for the National Cancer Institute Director's Liaison Group

The National Cancer Institute (NCI), the federal government's primary agency for cancer research, is seeking nominations for five new members of the NCI Director's Consumer Liaison Group (DCLG) who will be appointed in July 2001. The DCLG helps NCI to identify appropriate advocates to serve on its program and policy advisory committees, and it serves as a channel for consumer advocates to voice their views and concerns. The DCLG is a federal chartered advisory committee of the National Cancer Institute (NCI). It consists of 15 consumer advocates who are involved in cancer advocacy and who reflect the diversity among those whose lives are affected by cancer.

NCI brings together these advocates from many communities to advise and make recommendations to the Director, NCI from the consumer advocate perspective on a wide variety of issues, programs and research priorities. All DCLG members must be U.S. citizens. Specifically the DCLG members:

• Help develop and establish processes, mechanisms, and criteria for identifying appropriate consumer advocates to serve on a variety of program and policy advisory committees responsible for advancing the mission of the NCI.

• Serve as a primary forum for discussing issues and concerns and exchanging viewpoints that are important to the broad development of the NCI programmatic and research priorities.

• Establish and maintain strong collaborations between the NCI and the cancer advocacy community to reach common goals.

Eligibility Requirements for Individual Members

To serve on the DCLG, a member must meet the following minimum eligibility requirements:

• Be involved in the cancer experience as a cancer survivor, a person affected by the suffering and consequences of cancer, or a professional or volunteer who works with survivors or those affected.

• Represent a constituency (formally or informally) with whom she or he communicates regularly on cancer issues and be able to serve as a conduit for information both to and from his/her constituency.

DCLG members must be committed to participating in all activities of the DCLG which includes at least two meetings a year in Bethesda.

Criteria for Evaluating Individual Candidates

Nominees who meet the minimum eligibility requirements will be further assessed based on the following criteria:

• Cancer Advocacy experience

• Ability to communicate effectively

• Ability to represent broad issues, think “globally”

• Ability to contribute to an effective group process

• Leadership ability

Characteristics of the DCLG

In addition to the criteria for individual candidates, the following characteristics of the DCLG as a group are intended to ensure that it reflects the breadth and diversity of the consumer advocacy community:

• Multicultural diversity

• A broad mix of cancer sites

• Representation of the medically underserved

• Men and women

• A range of organizations (local/regional and national)

• Age diversity

• Geographic diversity (rural/urban mix)

Selection Process

A call for nominations is disseminated annually to a broad range of groups, including local, regional and national organizations, to encourage nominations of candidates reflecting the diversity sought for the DCLG. All nominees are screened for eligibility, then evaluated according to the criteria. A list of highly qualified candidates who reflect balance and diversity of representation is forwarded to the Director, NCI, who selects the DCLG members. The original members of the DCLG endorsed this process, which will be used to select future members.

NCI encourages nomination of candidates reflecting the diversity sought on the DCLG. Nominations can be made by organizations, including local/regional and national groups, or individuals, including self-nominations. To receive a nomination package for the DCLG, send your name, advocacy/voluntary organization affiliation (if any), address and phone number to the Office of Liaison Activities, NCI, c/o Palladian Partners, 1010 Wayne Avenue, Suite 1200, Silver Spring, MD 20910, FAX (301) 650 8676. Nominations must be postmarked by February 15, 2001.

Dated: November 30, 2000.
LaVerne Stringfield,
Director, Office of Federal Advisory Committee Policy, National Institutes of Health.

[FR Doc. 00-31197 Filed 12-6-00; 8:45 am]

BILLING CODE 4140-01-M